DEPARTMENT OF COMMERCE

National Oceanic and Atmospheric Administration

Proposed Information Collection; Comment Request; For-Hire Telephone Survey

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 4, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument(s) and instructions should be directed to Ana Valentin, Phone: (301) 427-8187 or ana.valentin@NOAA.gov.

SUPPLEMENTARY INFORMATION:

I. Abstract

This request is for a new information collection.

Marine recreational anglers are surveyed to collect catch and effort data, fish biology data, and angler socioeconomic characteristics. These data are required to carry out provisions of the Magnuson-Stevens Fishery Conservation and Management Act (16 U.S.C. 1801 et seq.), as amended, regarding conservation and management of fishery resources.

The For-Hire Survey (FHS) will collect recreational fishing catch and effort data through a telephone, Web-based data collection, and log sheet methods. Amendments to the Magnuson-Stevens Fishery Conservation and Management Act require the development of an improved data collection program for recreational fisheries. To meet these requirements, NOAA Fisheries has designed a telephone questionnaire in the Computer Assisted Telephone Interview (CATI) system for surveying and collecting catch and effort data from recreational anglers. The FHS will sample a week's activity from 10% of vessels that are permitted for-hire or charter vessel trips. Each interview will collect the number of recreational fishing trips, and log sheets submitted by the permit holders will show corresponding effort data (e.g. time at sea, amounts of catch from each fishery), within the sample selected week.

II. Method of Collection

Information will be collected through telephone interviews using a CATI System. In lieu of telephone interviews, respondents may also provide information via a Web-based application.

III. Data

OMB Control Number: 0648-XXXX.

Form Number: None.

Type of Review: Regular submission (request for a new information collection).

Affected Public: Individuals or households.

Estimated Number of Respondents: 20,000.

Estimated Time per Response: 3½ minutes for a telephone interview; 3½ minutes to complete their responses on the web-based application; 1 minute for fax the log-sheet.

Estimated Total Annual Burden Hours: 1,334.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 29, 2014.
Gwellnar Banks,
Management Analyst, Office of the Chief Information Officer.

[FR Doc. 2014-12840 Filed 6-3-14; 8:45 am]

BILLING CODE 3510-22-P